DEPARTMENT OF HEALTH AND HUMAN SERVICES

Food and Drug Administration

[Docket No. FDA-2009-N-0406]

Agency Emergency Processing Under the Office of Management and Budget Review; Tobacco Product Establishment Registration and Submission of Certain Health Information; Correction

AGENCY: Food and Drug Administration, HHS.

ACTION: Notice; correction.

SUMMARY: The Food and Drug Administration (FDA) is correcting a notice that appeared in the Federal Register of September 1, 2009 (74 FR 45219). The document announced the proposed collection of information concerning the submission of tobacco product establishment registration and submission of certain health information, including ingredient listing and health related documents, as required by the Family Smoking Prevention and Tobacco Control Act. The document was published with an incorrect date for submitting written or electronic comments on the proposed collection. This document corrects that error.

FOR FURTHER INFORMATION CONTACT: Jonna Capezzuto, Office of Information Management (HFA-250), Food and Drug Administration, 5600 Fishers Lane, Rockville, MD 20857, 301-796-3794, Jonnalynn.Capezzuto@fda.hhs.gov.

SUPPLEMENTARY INFORMATION: In FR Doc. E9-21099, appearing on page 45219, in the Federal Register of Tuesday, September 1, 2009, the following correction is made:

On page 45219, in the second column, in the “DATES” section, beginning in the second line, “September 16, 2009” is corrected to read “October 1, 2009”.

Dated: September 8, 2009.
David Horowitz,
Assistant Commissioner for Policy.

[FR Doc. E9-22120 Filed 9-14-09; 8:45 am]

BILLING CODE 4160-01-S